DEPARTMENT OF LABOR

Employment and Training Administration

[TA-W-56,277]

Glenshaw Glass Company, Glenshaw, PA; Notice of Termination of Investigation

Pursuant to section 221 of the Trade Act of 1974, as amended, an investigation was initiated on January 3, 2005, in response to a petition filed by the United Steelworkers of America on behalf of workers at Glenshaw Glass Company, Glenshaw, Pennsylvania. Workers at the subject plant produced glass containers. The plant shut down on November 22, 2004.

The present petitioner represents a subgroup of workers at the facility who were engaged in the maintenance and repair of mold equipment for the production of glass containers.

The Department of Labor issued a negative determination applicable to all workers at the subject facility on December 1, 2004 (TA-W-55,898). No new information or change in circumstances is evident which would result in a reversal of the Department's previous determination. Consequently, further investigation would serve no purpose, and the investigation has been terminated.

Signed in Washington, DC, this 28th day of January, 2005.
Richard Church,
Certifying Officer, Division of Trade Adjustment Assistance.

[FR Doc. E5-710 Filed 2-22-05; 8:45 am]

BILLING CODE 4510-30-P